NATIONAL SCIENCE FOUNDATION

Advisory Committee for Biological Sciences; Notice of Meeting

In accordance with the Federal Advisory Committee Act (Pub. L., 92-463, as amended), the National Science Foundation announces the following meeting:

Name: Biological Sciences Advisory Committee (#1110).

Date and Time: March 29, 2011; 8:30 a.m. to 5 p.m.

March 30, 2011; 8:30 a.m. to 5 p.m.

Place: National Science Foundation, 1401 Wilson Blvd., Arlington, VA 22230.

Type of Meeting: Open.

Contact Person: Chuck Liarakos, National Science Foundation, Room 605, 4201 Wilson Boulevard, Arlington, VA 22230. Tel No.: (703) 292-8400.

Purpose of Meeting: The Advisory Committee for BIO provides advice, recommendations, and oversight concerning major program emphases, directions, and goals for the research-related activities of the divisions that make up BIO.

Agenda: Items on the agenda include the NSF and BIO FY 2012 budget request, the 2010 America Competes Act, and a progress report on BIO's ongoing experiments in innovation. In addition, the BIO AC will discuss “information exchange environments” and STEM education, workforce and careers in science.

Dated: March 4, 2011.
Susanne Bolton,
Committee Management Officer.

[FR Doc. 2011-5364 Filed 3-8-11; 8:45 am]

BILLING CODE 7555-01-P